DEPARTMENT OF COMMERCE

National Oceanic and Atmospheric Administration

Membership of the National Oceanic and Atmospheric Administration Performance Review Board

AGENCY: National Oceanic and Atmospheric Administration (NOAA), Department of Commerce.

ACTION: Notice of Membership of NOAA Performance Review Board.

SUMMARY: In accordance with 5 U.S.C., 4314(c)(4), NOAA announces the appointment of persons to serve as members of the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees, and SES recertification. The appointment of members to the NOAA PRB will be for a period of 24 months.

EFFECTIVE DATE: The effective date of service of appointees to the NOAA Performance Review Board is September 4, 2000.

FOR FURTHER INFORMATION CONTACT: Paul A. Gilmore, Executive Resources Program Manager, Human Resources Management Office, Office of Finance and Administration, NOAA, 1305 East-West Highway, Silver Spring, Maryland 20910, (301) 713-0530 (ext. 204).

SUPPLEMENTARY INFORMATION: The names and position titles of the members of the NOAA PRB (NOAA officials unless otherwise identified) are set forth below:

Daniel J. Basta: Chief, Strategic Environmental Assessment Division, National Ocean Service

Stephen B. Brandt: Director, Great Lakes Environmental Research Laboratory, Office of Oceanic and Atmospheric Research

Irwin T. David: Chief Financial Officer/Chief Administrative Officer, National Weather Service

Susan B. Fruchter: Counselor to the Under Secretary, Office of Policy and Strategic Planning

Thomas A. Gary: Director, Office of Operations, Management and Information, National Marine Fisheries Service

Mary M. Glackin: Deputy Assistant Administrator, National Environmental Satellite, Data and Information Service

Margaret F. Hayes: Assistant General Counsel for Fisheries, Office of the General Counsel

William T. Hogarth: Deputy Assistant Administrator, National Marine Fisheries Service

Helen M. Hurcombe: Director, Acquisition, Grants and Facility Service, Office of Finance and Administration

John E. Jones, Jr.: Deputy Assistant Administrator for Weather Services, National Weather Service

Christina B. Katsaros: Director, Atlantic Oceanographic and Meteorological Laboratories, Office of Oceanic and Atmospheric Research

Gerald R. Lucas: Deputy Chief Financial Officer, Economic Development Administration, Department of Commerce

Jolene A. Lauria Sullens: Deputy Chief Financial Officer/ Director of Budget, Office of Finance and Administration

John E. Oliver, Jr.: Chief Financial Officer/Chief Administrative Officer, National Ocean Service

Helen M. Wood: Director, Office of Satellite Data Processing and Distribution, National Environmental Satellite, Data and Information Service

Dated: September 1, 2000.
D. James Baker,
Under Secretary for Oceans and Atmosphere.

[FR Doc. 00-23038 Filed 9-7-00; 8:45 am]

BILLING CODE 3510-12-P